FEDERAL COMMUNICATIONS COMMISSION

47 CFR Part 73

[DA 07-1132; MB Docket No. 06-65; RM-11320, RM-11335]

Radio Broadcasting Services; Alva, OK; Ashland, Greensburg, and Kinsley, KS; Medford, and Mustang, OK

AGENCY: Federal Communications Commission.

ACTION: Final rule, dismissal of petition for reconsideration.

SUMMARY: This document dismisses a counterproposal, including the allotment of Channel 288C3 at Kinsley, Kansas, and a petition for reconsideration directed to the Report and Order in this proceeding, pursuant to Chisholm's Request for Withdrawal. Although the Federal Register Summary added Channel 288C3 at Kinsley, it was never implemented. Nevertheless, we are formally removing Channel 288C3 at Kinsley, Kansas from the FM Table of Allotments because there is no longer any expression of interest in it.

FOR FURTHER INFORMATION CONTACT: Helen McLean, Media Bureau, (202) 418-2738.

SUPPLEMENTARY INFORMATION: This is a synopsis of the Commission's Memorandum Opinion and Order, MB Docket No. 06-65, adopted March 7, 2007, and released March 9, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com.

The Commission will send a copy of this Memorandum Opinion and Order in a report to be sent to Congress and the Government Accountability Office pursuant to the Congressional Review Act, see 5 U.S.C. 801(a)(1)(A).

Federal Communications Commission.
John A. Karousos,
Assistant Chief, Audio Division, Media Bureau.

[FR Doc. E7-5567 Filed 3-27-07; 8:45 am]

BILLING CODE 6712-01-P